DEPARTMENT OF EDUCATION

Notice of Proposed Information Collection Requests

AGENCY: Department of Education.

ACTION: Comment request.

SUMMARY: The Department of Education (the Department), in accordance with the Paperwork Reduction Act of 1995 (PRA) (44 U.S.C. 3506(c)(2)(A)), provides the general public and Federal agencies with an opportunity to comment on proposed and continuing collections of information. This helps the Department assess the impact of its information collection requirements and minimize the reporting burden on the public and helps the public understand the Department's information collection requirements and provide the requested data in the desired format. The Director, Information Collection Clearance Division, Privacy, Information and Records Management Services, Office of Management, invites comments on the proposed information collection requests as required by the Paperwork Reduction Act of 1995.

DATES: Interested persons are invited to submit comments on or before July 18, 2011.

ADDRESSES: Comments regarding burden and/or the collection activity requirements should be electronically mailed to ICDocketMgr@ed.gov or mailed to U.S. Department of Education, 400 Maryland Avenue, SW., LBJ, Washington, DC 20202-4537. Please note that written comments received in response to this notice will be considered public records.

SUPPLEMENTARY INFORMATION: Section 3506 of the Paperwork Reduction Act of 1995 (44 U.S.C. Chapter 35) requires that Federal agencies provide interested parties an early opportunity to comment on information collection requests. The Director, Information Collection Clearance Division, Information Management and Privacy Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: May 13, 2011.
Darrin A. King,
Director, Information Collection Clearance Division, Privacy, Information and Records Management Services, Office of Management.

Institute of Education Sciences

Type of Review: New Collection.

Title of Collection: Evaluation of the Individuals with Disabilities Education Act (IDEA) Technical Assistance and Dissemination (TA&D) Program.

OMB Control Number: Pending.

Agency Form Number(s): N/A.

Frequency of Responses: Once.

Affected Public: Not-for-profit institutions; State, Local, or Tribal Government, State Education Agencies, Local Education Agencies.

Total Estimated Number of Annual Responses: 1,035.

Total Estimated Number of Annual Burden Hours: 1,028.

Abstract: This data collection will focus on gathering relevant information on the Technical Assistance and Dissemination Program from program grantees and from officials at State Education Agencies (SEAs) and Part C lead agencies. This data collection will include two activities. The first activity will be a TA&D Program Grantee Questionnaire/Interview, which will yield detailed descriptive information of TA&D Program grantees' activities concerning the topic areas addressed by TA&D Program grantees, the practices and outcomes in particular on which grantees are focused, as well as the technical assistance products and services provided by the TA&D Program grantees and to whom they provide them. The second activity will be a state survey, which will provide information concerning the needs that SEAs and Part C lead agencies have for technical assistance to support the implementation of IDEA and support improvement of child outcomes, and the technical assistance services and products that have been accessed or received by selected staff at the state level from Office of Special Education Programs TA&D Program centers and their satisfaction with those services and products.

Copies of the proposed information collection request may be accessed from http://edicsweb.ed.gov, by selecting the “Browse Pending Collections” link and by clicking on link number 4615. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

[FR Doc. 2011-12243 Filed 5-17-11; 8:45 am]

BILLING CODE 4000-01-P